DEPARTMENT OF TRANSPORTATION

Coast Guard

[USCG 2000-7933]

Collection of Information Under Review by Office of Management and Budget (OMB): OMB Control Numbers 2115-0571, 2115-0552, 2115-0565, 2115-0589, and 2115-0613

AGENCY: Coast Guard, DOT.

ACTION: Request for comments.

SUMMARY: In compliance with the Paperwork Reduction Act of 1995, the Coast Guard intends to seek the approval of OMB for the renewal of five Information Collection Requests (ICRs). They comprise: (1) Alternative Provisions for Reinspection of Offshore Supply Vessels in Foreign Ports, (2) Waterfront Facilities Handling Liquefied Natural Gas and Liquefied Hazardous Gas, (3) Working Freeboard of Hopper Dredges—Load Lines and Stability, (4) Plan Approval and Records for Subdivision and Stability, and (5) Discharge of Refuse from Ships. Before submitting the ICRs to OMB, the Coast Guard is requesting comments on the collections, described below.

DATES: Comments must reach the Coast Guard on or before November 21, 2000.

ADDRESSES: You may mail comments to the Docket Management System (DMS) [USCG 2000-7933], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG 2000-7933], and give the reason for the comments. Please submit all comments and attachments in an unbound format no larger than 8½ by 11 inches, suitable for copying and electronic filing. Persons wanting acknowledgment of receipt of comments should enclose stamped, self-addressed postcards or envelopes.

Information Collection Request

1. Title: Alternative Provisions for Reinspection of Offshore Supply Vessels in Foreign Ports.

OMB Control Number: 2115-0571.

Summary: This collection of information provides a mechanism for owners and operators of offshore supply vessels (OSVs) based overseas to submit certified examination reports and statements to the Coast Guard as alternatives to reinspection by the Coast Guard.

Need: 46 U.S.C. 3307 and 3308 require vessels subject to inspection to be examined on a periodic basis. The requirements for inspections of OSVs appear in 46 CFR Part 126.

Respondents: Owners and operators of vessels.

Frequency: On occasion.

Burden: The estimated burden is 143 hours a year.

2. Title: Waterfront Facilities Handling Liquefied Natural Gas and Liquefied Hazardous Gas.

OMB Control Number: 2115-0552.

Summary: Liquefied Natural Gas (LNG) and other Liquefied Hazardous Gases (LHGs) present a risk to the public when handled at waterfront facilities. These rules should either prevent accidental releases at waterfront facilities or mitigate their results. They are necessary to promote and verify compliance with safety standards.

Need: 33 CFR Part 127 prescribes safety standards for design, construction, equipment, operations, maintenance, personnel training, and fire protection at waterfront facilities handling LNG or LHG.

Respondents: Owners and operators of waterfront facilities that transfer LNG or LHG.

Frequency: On occasion.

Burden: The estimated burden is 3,272 hours a year.

3. Title: Working Freeboard of Hopper Dredges—Load Lines and Stability.

OMB Control Number: 2115-0565.

Summary: This collection of information provides a mechanism for owners and operators of self-propelled hopper dredges to request working freeboards.

Need: 46 U.S.C. 3306 authorizes the U.S. Coast Guard to prescribe rules for the safety of navigation and vessels. These rules ensure that self-propelled hopper dredges meet certain standards for structure and stability.

Respondents: Owners and operators of self-propelled hopper dredges.

Frequency: On occasion.

Burden: The estimated burden is 46 hours a year.

4. Title: Plan Approval and Records for Subdivision and Stability.

OMB Control Number: 2115-0589.

Summary: This collection of information requires owners, operators, or masters of certain inspected vessels to obtain or post various documents as part of the program of the Coast Guard for the safety of commercial vessels.

Need: 46 U.S.C. 3306 authorizes the Coast Guard to prescribe rules for the safety of certain vessels. 46 CFR Subchapter S contains the rules regarding subdivision and stability.

Respondents: Owners, operators, and masters, of vessels.

Frequency: On occasion.

Burden: The estimated burden is 10,003 hours a year.

5. Title: Discharge of Refuse from Ships.

OMB Control Number: 2115-0613.

Summary: The Marine Plastic Pollution Research and Control Act of 1987 requires the keeping of records on the discharge of refuse by oceangoing commercial vessels that are 40 feet in length or more. The rules appear in 33 CFR 151.55.

Need: This collection of information is needed as part of the Coast Guard's program for compliance with rules on pollution prevention.

Respondents: Owners, operators, masters, and persons-in-charge of vessels.

Frequency: On occasion.

Burden: The estimated burden is 523,302 hours a year.

Dated: September 15, 2000.
S.A. Richardson,
Acting Director of Information and Technology.

[FR Doc. 00-24384 Filed 9-21-00; 8:45 am]

BILLING CODE 4910-15-U